DEPARTMENT OF DEFENSE

Office of the Secretary

[Docket ID: DoD-2023-OS-0038]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by August 25, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Data for Payment of Retired Personnel; DD Form 2656; OMB Control Number 0704-0569.

Type of Request: Extension.

Number of Respondents: 127,950.

Responses per Respondent: 1.

Annual Responses: 127,950.

Average Burden per Response: 15 minutes.

Annual Burden Hours: 31,988.

Needs and Uses: The information collection requirement is necessary to obtain applicable retirement information from Uniformed Service members and allow those members to make certain retired pay and survivor annuity elections prior to retirement from service or prior to reaching eligibility to receive retired pay. The form will also allow eligible members covered by the Blended Retirement System to make a voluntary election of a partial lump sum of retired pay, as required by Section 1415 of title 10, United States Code. Every member of the Uniformed Services who retires or reaches the age of eligibility to begin receiving retired pay, in the case of members of the Reserves and National Guard, will voluntarily complete this form to request retired pay, designate beneficiaries, and make a Survivor Benefit Plan election. In an average calendar year, approximately 127,950 members of the Uniformed Service will complete this form. The spouses of retiring members of the Uniformed Services are only required to complete Part V of this form if the Service member declines or reduces his or her level of under the Survivor Benefit Plan.

Affected Public: Individuals or households.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: July 19, 2023.
Aaron T. Siegel,
Alternate OSD Federal Register Liaison Officer, Department of Defense.

[FR Doc. 2023-15798 Filed 7-25-23; 8:45 am]

BILLING CODE 5001-06-P